DEPARTMENT OF ENERGY

Federal Energy Regulatory Commission

[Docket No. EG01-141-000, et al.]

Effingham County Power, LLC, et al.; Electric Rate and Corporate Regulation Filings

April 23, 2001.

Take notice that the following filings have been made with the Commission:

1. Effingham County Power, LLC

[Docket No. EG01-141-000]

Take notice that on April 17, 2001, Effingham County Power, LLC, 411 Fayetteville Street Mall, Raleigh, NC 27601, tendered for filing the Federal Energy Regulatory Commission (Commission) an amendment to Part III of its application for determination of exempt wholesale generator status pursuant to section 32(a)(1) of the Public Utility Holding Company Act of 1935 (PUHCA). The applicant is a limited liability company that will engage directly or indirectly and exclusively in the business of owning and/or operating eligible facilities in the United States and selling electric energy at wholesale. The applicant proposes to own and operate an approximately 537 megawatt gas-fired combustion turbine. All electric energy sold by the applicant will be sold exclusively at wholesale.

Comment date: May 14, 2001, in accordance with Standard Paragraph E at the end of this notice. The Commission will limit its consideration of comments to those that concern the adequacy or accuracy of the application.

2. Rowan County Power, LLC

[Docket No. EG01-142-000]

Take notice that on April 17, 2001, Rowan County Power, LLC, 411 Fayetteville Street Mall, Raleigh, NC 17602, tendered for filing with the Federal Energy Regulatory Commission (Commission), an amendment to Part III of its application for determination of exempt wholesale generator status pursuant to Part 365 of the Commission's regulations. The applicant is a limited liability company that will engage directly or indirectly and exclusively in the business of owning and/or operating eligible facilities in the United States and selling electric energy at wholesale. The applicant proposes to own and operate an approximately 500 megawatt gas-fired combustion turbine. All electric energy sold by the applicant will be sold exclusively at wholesale.

Comment date: May 14, 2001, in accordance with Standard Paragraph E at the end of this notice. The Commission will limit its consideration of comments to those that concern the adequacy or accuracy of the application.

3. ManChief Power Company, LLC

[Docket No. EG01-194-000]

Take notice that on April 19, 2001, ManChief Power Company, LLC , 1001 Louisiana Street, Houston, Texas 77002, filed with the Federal Energy Regulatory Commission (Commission), an application for determination of exempt wholesale generator status pursuant to Part 365 of the Commission's regulations.

ManChief Power Company, LLC is a Delaware limited liability company formed by El Paso ManChief Power Company, LLC (El Paso ManChief), a Delaware limited liability company and wholly owned subsidiary of Fulton Cogeneration Associates L.P., a New York limited partnership, to acquire, own and maintain a natural gas-fired single-cycle electric generation plant with a maximum capacity of approximately 301.8 MW, located near Brush, Colorado.

Comment date: May 14, 2001, in accordance with Standard Paragraph E at the end of this notice. The Commission will limit its consideration of comments to those that concern the adequacy or accuracy of the application.

4. Indigo Generation LLC

[Docket No. EG01-195-000]

Take notice that on April 19, 2001, Indigo Generation LLC (Indigo Generation) filed with the Commission an application for determination of exempt wholesale generator (EWG) status pursuant to Part 365 of the Commission's regulations.

Comment date: May 14, 2001, in accordance with Standard Paragraph E at the end of this notice. The Commission will limit its consideration of comments to those that concern the adequacy or accuracy of the application.

5. Larkspur Energy LLC

[Docket No. EG01-196-000]

Take notice that on April 19, 2001, Larkspur Energy LLC (Larkspur Energy) filed with the Commission an application for determination of exempt wholesale generator (EWG) status pursuant to Part 365 of the Commission's regulations.

Comment date: May 14, 2001, in accordance with Standard Paragraph E at the end of this notice. The Commission will limit its consideration of comments to those that concern the adequacy or accuracy of the application.

6. Wildflower Energy LP

[Docket No. EG01-197-000]

Take notice that on April 19, 2001, Wildflower Energy LP (Wildflower Energy) filed with the Commission an application for determination of exempt wholesale generator (EWG) status pursuant to Part 365 of the Commission's regulations.

Comment date: May 14, 2001, in accordance with Standard Paragraph E at the end of this notice. The Commission will limit its consideration of comments to those that concern the adequacy or accuracy of the application.

7. Entergy Louisiana, Inc., Entergy Gulf States, Inc., and Entergy Mississippi, Inc.

[Docket Nos. OA97-337-002, OA97-342-002; OA97-346-002; and OA97-348-002]

Take notice that on April 18, 2001, Entergy Services, Inc., on behalf of Entergy Louisiana, Inc., Entergy Gulf States, Inc., and Entergy Mississippi, Inc., tendered for filing its revised compliance filing in response to the Commission's order in Entergy Louisiana, Inc., 94 FERC & 61,330 (2001).

Comment date: May 9, 2001, in accordance with Standard Paragraph E at the end of this notice.

8. Entergy Services, Inc.

[Docket Nos. ER95-112-013 and ER96-586-008]

Take notice that on April 18, 2001, Entergy Services, Inc., on behalf of Entergy Arkansas, Inc., Entergy Gulf States, Inc., Entergy Mississippi, Inc., Entergy Louisiana, Inc., and Entergy New Orleans, Inc., tendered for filing Substitute Original Sheet No. 153 to its Order No. 614 compliance Open Access Transmission Tariff in the above-captioned dockets.

Comment date: May 9, 2001, in accordance with Standard Paragraph E at the end of this notice.

9. Connecticut Energy Cooperative, Inc.

[Docket No. ER01-1279-001]

Take notice that on April 18, 2001 Connecticut Energy Cooperative, Inc. (the Aco-op) tendered for filing Co-op's amended Rate Schedule FERC No. 1; the amended Rate Schedule FERC No. 1 contains the designation format required by Order No. 614, FERC Stats. & Regs. ¶ 31,096 (2000).

Comment date: May 9, 2001, in accordance with Standard Paragraph E at the end of this notice.

10. Whiting Clean Energy, Inc.

[Docket No. ER01-1300-001]

Please take notice that on April 18, 2001, Whiting Clean Energy, Inc. (WCE), an indirect wholly owned subsidiary of NiSource Inc., tendered for filing tariff sheets in compliance with the April 12, 2001 Order of the Federal Energy Regulatory Commission. The April 12, 2001 Order required WCE to modify the designations on certain tariff sheets to comply with Order No. 614, FERC Stats. & Regs. ¶ 31,096 (2000). WCE states that the tariff sheets filed pursuant to the April 12, 2001 Order comply with Order No. 614. Specifically, WCE is filing:

Original Sheet No. 6

FERC Electric Tariff, Original Volume No. 1

Original Sheet No. 7

FERC Electric Tariff, Original Volume No. 1

Original Sheet No. 8

FERC Electric Tariff, Original Volume No. 1

Comment date: May 9, 2001, in accordance with Standard Paragraph E at the end of this notice.

11. Whiting Clean Energy, Inc.

[Docket No. ER01-1300-002]

Please take notice that on April 18, 2001, Whiting Clean Energy, Inc. (WCE), an indirect wholly owned subsidiary of NiSource Inc., tendered for filing tariff sheets in compliance with the April 12, 2001 Order of the Federal Energy Regulatory Commission. The April 12, 2001 Order required WCE to modify the designations on certain tariff sheets to comply with Order No. 614, FERC Stats. & Regs. ¶ 31,096 (2000). WCE states that the tariff sheets filed pursuant to the April 12, 2001 Order comply with Order No. 614. Specifically, WCE is filing:

Original Sheet No. 6

FERC Electric Tariff, Original Volume No. 1

Original Sheet No. 7

FERC Electric Tariff, Original Volume No. 1

Original Sheet No. 8

FERC Electric Tariff, Original Volume No. 1

Comment date: May 9, 2001, in accordance with Standard Paragraph E at the end of this notice.

12. Wolverine Power Supply Cooperative, Inc.

[Docket No. ER01-1815-000]

Take notice that on April 18, 2001, Wolverine Power Supply Cooperative, Inc. (Wolverine), tendered for filing proposed changes to its Rate Schedule FERC No. 4—Wholesale Service to Member Distribution Cooperatives. The proposed changes amend Rate Schedule FERC No. 4 by adding Rider MOS—Member Owned Substation Credit to account for Wolverine member distribution cooperatives purchasing from Wolverine distribution substations dedicated to the member's use.

Copies of the filing were served on the public utility's jurisdictional customers and the Public Utility Commission of Michigan.

Comment date: May 9, 2001, in accordance with Standard Paragraph E at the end of this notice.

13. Cinergy Services, Inc.

[Docket No. ER01-1816-000]

Take notice that on April 18, 2001, Cinergy Services, Inc. (Cinergy) tendered for filing a Notice of Cancellation of MP Energy, Inc. for the Cost-Based Power Sales, Market-Based Power Sales, and the Resale, Assignment or Transfer of Transmission Rights and Ancillary Service Rights. Cinergy respectfully requests waiver of any applicable regulation to the extent necessary to make the tariff changes effective as of the date of each of the listed name changes.

A copy of the filing has been served to MP Energy, Inc.

Comment date: May 9, 2001, in accordance with Standard Paragraph E at the end of this notice.

14. Exelon Generation Company, LLC

[Docket No. ER01-1817-000]

Take notice that on April 18, 2001, Exelon Generation Company, LLC (Exelon Generation) tendered for filing a service agreement for wholesale power sales transactions between Exelon Generation and Consumers Energy Company under Exelon Generation's wholesale power sales tariff, FERC Electric Tariff, Original Volume No. 1.

Comment date: May 9, 2001, in accordance with Standard Paragraph E at the end of this notice.

15. Allegheny Energy Service Corporation, on Behalf of Monongahela Power Company The Potomac Edison Company, and West Penn Power Company, (Allegheny Power)

[Docket No. ER01-1818-000]

Take notice that on April 18, 2001, Allegheny Energy Service Corporation on behalf of Monongahela Power Company, The Potomac Edison Company and West Penn Power Company (Allegheny Power), tendered for filing Service Agreement No. 351 to add Calpine Energy Services, L.P. to Allegheny Power's Open Access Transmission Service Tariff which has been accepted for filing by the Federal Energy Regulatory Commission in Docket No. ER96-58-000. The proposed effective date under the Service Agreement is April 17, 2001 or a date ordered by the Commission.

Copies of the filing have been provided to the Public Utilities Commission of Ohio, the Pennsylvania Public Utility Commission, the Maryland Public Service Commission, the Virginia State Corporation Commission, and the West Virginia Public Service Commission.

Comment date: May 9, 2001, in accordance with Standard Paragraph E at the end of this notice.

16. Cogentrix Lawrence County, LLC

[Docket No. ER01-1819-000]

Take notice that on April 18, 2001, Cogentrix Lawrence County, LLC (Lawrence County), an electric power developer organized under the laws of Delaware, tendered for filing acceptance of its market-based rate tariff, waiver of certain requirements under Subparts B and C of Part 35 of the Commission's regulations, and preapproval of transactions under Part 34 of the regulations. Lawrence County is developing an 810 MW (summer rated) gas fired generating facility in Lawrence County, Indiana.

Copies of this filing are on file with the Commission and are available for public inspection.

Comment date: May 9, 2001, in accordance with Standard Paragraph E at the end of this notice.

17. Cinergy Services, Inc.

[Docket No. ER01-1820-000]

Take notice that on April 18, 2001, Cinergy Services, Inc. (Cinergy Services), on behalf of The Cincinnati Gas & Electric Co. (CG&E) and PSI Energy, Inc. (PSI) (together, the Operating Companies) tendered for filing a short-form market-based rate tariff (Proposed MR Tariff), which included a form of umbrella service agreement. The proposed market based rate tariff does not replace Cinergy Services's existing market-based rate tariff, FERC Electric Tariff, Original Volume No. 7. Cinergy Services requests waiver of the Commission's notice of filing requirements to allow the proposed tariff to become effective on April 19, 2001, the day after filing.

Cinergy Services has served this filing upon the Indiana Utility Regulatory Commission, the Kentucky Public Service Commission and the Public Utilities Commission of Ohio.

Comment date: May 9, 2001, in accordance with Standard Paragraph E at the end of this notice.

18. Power Dynamics, Inc.

[Docket No. ER01-1821-000]

Take notice that on April 18, 2001, Power Dynamics, Inc. (PDI) petitioned the Commission, pursuant to section 205 of the Commission's Rules of Practice and Procedure, 18 CFR 385.205 (1999), tendered for filing an order accepting its Rate Schedule FERC No. 1; for the granting of certain blanket approvals, including the authority to sell electricity at market-based rates; and for the waiver of certain Commission regulations.

PDI intends to engage in wholesale electric power and energy purchases and sales as a marketer. PDI is not in the business of generating or transmitting electric power.

Comment date: May 9, 2001, in accordance with Standard Paragraph E at the end of this notice.

19. Midwest Generation, LLC

[Docket No. ER01-1827-000]

Take notice that on April 18, 2001, Midwest Generation, LLC (Midwest) tendered for filing a long-term service agreement for the sale of power under Midwest's market-based rate tariff, FERC Electric Rate Tariff, Original Volume No. 1 accepted in Docket No. ER99-3693-000.

Comment date: May 9, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at ­http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-10644 Filed 4-27-01; 8:45 am]

BILLING CODE 6717-01-P